DEPARTMENT OF JUSTICE

Notice of Lodging of Consent Decree Under the Clean Water Act

On May 12, 2015, the Department of Justice lodged a proposed Consent Decree with the United States District Court for the Southern District of Iowa in the lawsuit entitled United States v. Twin Counties Dairy, LLC, (S.D. Iowa), No. 3:15-cv-00051.

The Consent Decree resolves the United States' claims against Twin Counties Dairy, LLC, for alleged violations of the Clean Water Act, 33 U.S.C. 1251, et seq., as set forth in the United States' complaint filed on May 12, 2015. In this action, the United States sought injunctive relief and penalties pursuant to Section 309(b) and (d) of the Clean Water Act, 33 U.S.C. 1319(b), (d), against Twin Counties Dairy, LLC. (the “Settling Defendant”). The Complaint alleged that the Settling Defendant violated the conditions of National Pollutant Discharge Elimination System (“NPDES”) permits issued by the State of Iowa pursuant to the Clean Water Act, 33 U.S.C. 1342, at its dairy in Kalona, Iowa. The Consent Decree provides that Defendant will pay a civil penalty of $190,000 for these violations and implement proper closure procedures for the Facility, as the Settling Defendant ceased operations in October 2014.

The publication of this notice opens a period for public comment on the proposed Consent Decree. Comments should be addressed to the Assistant Attorney General, Environment and Natural Resources Division, and should refer to United States v. Twin County Dairy, Inc. (S.D. Iowa) No. 3:15-cv-00051, D.J. Ref. 90-5-1-1-10716. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ-ENRD, P.O. Box 7611, Washington, DC 20044-7611.

Please enclose a check or money order for $2.50 (25 cents per page reproduction cost) payable to the United States Treasury.

Maureen Katz,
Assistant Section Chief, Environmental Enforcement Section, Environment and Natural Resources Division.

[FR Doc. 2015-12886 Filed 5-27-15; 8:45 am]

BILLING CODE 4410-15-P